DEPARTMENT OF TRANSPORTATION

Federal Aviation Administration

14 CFR Part 39

[Docket No. 2000-NM-292-AD; Amendment 39-12079; AD 2001-01-09]

RIN 2120-AA64

Airworthiness Directives; Airbus Model A330-301, -321, and -322 Series Airplanes; and Model A340-211, -212, -213, -311, -312, and -313 Series Airplanes

AGENCY: Federal Aviation Administration, DOT.

ACTION: Final rule; request for comments.

SUMMARY: This amendment supersedes an existing airworthiness directive (AD), applicable to all Airbus Model A330-301, -321, and -322 series airplanes; and Model A340-211, -212, -213, -311, -312, and -313 series airplanes. The existing AD requires repetitive replacements of the yaw damper actuator installed on active position with a new or overhauled actuator. This action adds a requirement, for certain airplanes, to install upgraded flight control primary computers, which terminates the requirement for the repetitive actuator replacements for those airplanes. This action is necessary to prevent hydraulic leakage from the yaw damper actuator installed on active position, due to premature wear of the dynamic seals between the actuator piston and the piston bearing. Hydraulic leakage could lead to the complete loss of the green hydraulic circuit, which could result in reduced controllability of the airplane. This action is intended to address the identified unsafe condition.

DATES: Effective February 2, 2001.

The incorporation by reference of certain publications, as listed in the regulations, is approved by the Director of the Federal Register as of February 2, 2001.

The incorporation by reference of certain other publications, as listed in the regulations, was approved previously by the Director of the Federal Register as of January 24, 2000 (64 FR 71004, December 20, 1999).

Comments for inclusion in the Rules Docket must be received on or before February 20, 2001.

ADDRESSES: Submit comments in triplicate to the Federal Aviation Administration (FAA), Transport Airplane Directorate, ANM-114, Attention: Rules Docket No. 2000-NM-292-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-292-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue SW., Renton, Washington; or at the Office of the Federal Register, 800 North Capitol Street NW., suite 700, Washington, DC.

FOR FURTHER INFORMATION CONTACT: Dan Rodina, Aerospace Engineer, International Branch, ANM-116, FAA, Transport Airplane Directorate, 1601 Lind Avenue SW., Renton, Washington 98055-4056; telephone (425) 227-2125; fax (425) 227-1149.

SUPPLEMENTARY INFORMATION: On December 10, 1999, the FAA issued AD 99-26-12, amendment 39-11471 (64 FR 71004, December 20, 1999). That AD is applicable to all Airbus Model A330-301, -321, and -322 series airplanes; and Model A340-211, -212, -213, -311, -312, and -313 series airplanes. That AD requires repetitive replacements of the yaw damper actuator installed on active position with a new or overhauled actuator. That AD was prompted by issuance of mandatory continuing airworthiness information by a foreign civil airworthiness authority. The requirements of that AD are intended to prevent hydraulic leakage from the yaw damper actuator installed on active position due to premature wear of the dynamic seals between the actuator piston and the piston bearing. Hydraulic leakage could lead to complete loss of the green hydraulic circuit, which could result in reduced controllability of the airplane.

Actions Since Issuance of Previous Rule

As described in the proposed NPRM to AD 99-26-12, hydraulic fluid leakage from the yaw damper actuator has been attributed to premature wear of certain dynamic seals. Investigation revealed a link between the leakage and small inputs sent by the flight control primary computers (FCPC).

In the preamble to AD 99-26-12, the FAA specified that the actions required by that AD were considered “interim action” and that the manufacturer was developing a modification to positively address the unsafe condition. The FAA indicated that it may consider further rulemaking action once the modification was developed, approved, and available. The manufacturer now has developed such a modification for Model A330 series airplanes, and the FAA has determined that further rulemaking action is indeed necessary; this proposed AD follows from that determination.

A similar modification has been developed for Model A340 series airplanes. There currently are no such airplanes on the U.S. Register. The A340 modification will be included in the FAA Required Modification List for these airplanes. Actions identified on this list must be accomplished before the airplane may be imported into the United States.

Explanation of Relevant Service Information

Airbus has issued the following service bulletins for Model A330 series airplanes:

Service bulletin | Revision level | Date
A330-27-3068 | Original | July 29, 1999.
A330-27-3071 | Original | November 19, 1999.
A330-27-3055 | 02 | March 24, 2000.

Service Bulletins A330-27-3068 and A330-27-3071 describe procedures for obtaining new software standards for the FCPCs by replacing or reprogramming the on-board replaceable modules, or by replacing the FCPCs with new, improved FCPCs. The actions specified by these service bulletins are intended to prevent premature wear and subsequent leakage of the active and damping yaw actuators.

Revision 02 of Service Bulletin A330-27-3055 was issued to, among other things, add a detailed visual inspection of the FCPC part numbers and revise certain repair procedures for replacing the yaw damper actuator. The actions otherwise are the same as those described in Revision 01 of the service bulletin, which was referred to in AD 99-26-12 as the appropriate source of service information for replacing the yaw damper actuator.

The DGAC classified the service bulletins as mandatory and issued French airworthiness directive 2000-076-115(B) R1, dated March 22, 2000, to ensure the continued airworthiness of affected Model A330 series airplanes in France.

FAA's Conclusions

These airplane models are manufactured in France and are type certificated for operation in the United States under the provisions of § 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design registered in the United States, this AD is being issued to prevent hydraulic leakage from the yaw damper actuator installed on active position, which could lead to complete loss of the green hydraulic circuit and consequent reduced controllability of the airplane. This AD supersedes AD 99-26-12 to continue to require repetitive replacements of the yaw damper actuator installed on active position with a new or overhauled yaw damper actuator. This AD adds a requirement, for affected Model A330 series airplanes, to install upgraded FCPCs, which terminates the requirement for repetitive actuator replacements for those airplanes. The actions are required to be accomplished in accordance with the service bulletins described previously.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 2 work hours to accomplish the required actions, at an average labor rate of $60 per work hour. Required parts would cost approximately $390 per airplane. Based on these figures, the cost impact of this AD is estimated to be $510 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 2000-NM-292-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11471 (64 FR 71004, December 20, 1999), and by adding a new airworthiness directive (AD), amendment 39-12079, to read as follows:

2001-01-09 Airbus Industrie: Amendment 39-12079. Docket 2000-NM-292-AD. Supersedes AD 99-26-12, Amendment 39-11471.

Applicability: The following airplanes, certificated in any category: Model A330-301, -321, and -322 series airplanes; excluding those on which Airbus Modification 46964 or 47221 has been installed; and Model A340-211, -212, -213, -311, -312, and -313 series airplanes.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent hydraulic leakage from the yaw damper actuator, which could lead to complete loss of the green hydraulic circuit and consequent reduced controllability of the airplane, accomplish the following:

Restatement of Requirements of AD 99-26-12

Repetitive Replacement

(a) Prior to the accumulation of 6,500 total flight hours, or within 500 flight hours after January 24, 2000 (the effective date of AD 99-26-12, amendment 39-11471), whichever occurs later, replace the yaw damper actuator installed on active position with a new or overhauled yaw damper actuator in accordance with Airbus Service Bulletin A330-27-3055, Revision 01, dated July 1, 1998, or Revision 02, dated March 24, 2000 (for Model A330 series airplanes); or A340-27-4063, Revision 01, dated July 1, 1998 (for Model A340 series airplanes); as applicable. Thereafter, repeat the replacement at intervals not to exceed 6,500 flight hours. For Model A330 series airplanes, after the effective date of this AD, only Revision 02 of Service Bulletin A330-27-3055 may be used.

Note 2: Replacement of yaw dampers accomplished prior to January 24, 2000, in accordance with Airbus Service Bulletin A330-27-3055, dated August 26, 1997 (for Model A330 series airplanes), or Airbus Service Bulletin A340-27-4063, dated August 26, 1997 (for Model A340 series airplanes); as applicable; is an acceptable method of compliance for the initial replacement required by paragraph (a) of this AD.

New Requirements of This AD

Terminating Action

(b) For Model A330 series airplanes: Within 18 months after the effective date of this AD, install 3 upgraded flight control primary computers (FCPC), in accordance with Airbus Service Bulletin A330-27-3071, dated November 19, 1999, or A330-27-3068, dated July 29, 1999; as applicable. Accomplishment of the installation terminates the requirements of this AD for Model A330 series airplanes.

Spares

(c) As of the effective date of this AD, no person may install an FCPC, part number LA2K01500A40000 or LA2K1A100D20000, on any Model A330 series airplane.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of any approved alternative methods of compliance with this AD may be obtained from the International Branch, ANM-116.

Special Flight Permits

(e) Special flight permits may be issued in accordance with §§ sections 21.197 and 21.199 of the Federal Aviation Regulations (14 CFR 21.197 and 21.199) to operate the airplane to a location where the requirements of this AD can be accomplished.

Incorporation by Reference

(f) The actions shall be done in accordance with the following Airbus service bulletins, as applicable:

Service bulletin number | Revision level | Date
A330-27-3055 | Revision 01 | July 1, 1998
A330-27-3055 | Revision 02 | March 24, 2000
A340-27-4063 | Revision 01 | July 1, 1998
A330-27-3071 | Original | November 19, 1999
A330-27-3068 | Original | July 29, 1999

(1) The incorporation by reference of Airbus Service Bulletin A330-27-3055, Revision 02, dated March 24, 2000; Airbus Service Bulletin A330-27-3071, dated November 19, 1999; and Airbus Service Bulletin A330-27-3068, dated July 29, 1999; is approved by the Director of the Federal Register in accordance with 5 U.S.C. 552(a) and 1 CFR part 51.

(2) The incorporation by reference of Airbus Service Bulletin A330-27-3055, Revision 01, dated July 1, 1998; and Airbus Service Bulletin A340-27-4063, Revision 01, dated July 1, 1998; was approved previously by the Director of the Federal Register as of January 24, 2000 (64 FR 71004, December 20, 1999).

(3) Copies of any of these service bulletins may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 1998-100-067(B) R2, dated May 19, 1999; 98-104-083(B), dated February 25, 1998; and 2000-076-115(B) R1, dated March 22, 2000.

Effective Date

(g) This amendment becomes effective on February 2, 2001.

Issued in Renton, Washington, on January 9, 2001.
Donald L. Riggin,
Acting Manager, Transport Airplane Directorate, Aircraft Certification Service.

[FR Doc. 01-1233 Filed 1-17-01; 8:45 am]

BILLING CODE 4910-13-U